DEPARTMENT OF THE INTERIOR

Fish and Wildlife Service

Issuance of Permits

AGENCY: Fish and Wildlife Service, Interior.

ACTION: Notice of issuance of permits for endangered species and marine mammals.

SUMMARY: The following permits were issued.

ADDRESSES: Documents and other information submitted with these applications are available for review, subject to the requirements of the Privacy Act and Freedom of Information Act, by any party who submits a written request for a copy of such documents to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permit(s) subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
694126 | National Institutes of Health | 67 FR 20544; April 25, 2002 | January 18, 2006.
079994 | Steven R. Leigh | 69 FR 8984; February 26, 2004 | September 28, 2005.
096602 | Jacksonville Zoo | 69 FR 30715; May 28, 2004 | July 20, 2005.
105361 | Jacksonville Zoo | 69 FR 30715; May 28, 2004 | July 20, 2005.
090113 | Lincoln Park Zoo | 69 FR 55445; September 14, 2004 | December 19, 2005.
058661, 058662, 058664, 058665, 058666, 058667, 058668, 058669, 058670, 058672, 058679, 058685, 058686, 058687, 058734, 058735, 058736, 058737, 058738, 058739, 058745, 058747, 058748, 058751, 058752, 058753, 058758, 058759, 058762, 058780, 059163 | Hawthorn Corporation | 70 FR 44679; August 3, 2005 | September 13, 2005.
106016 | National Zoo | 70 FR 46184; August 9, 2005 | January 12, 2006.
105498 | Minnesota Zoo | 70 FR 46183; August 9, 2005 | October 25, 2005.
090287 | Harvard University, Museum of Comparative Zoology | 70 FR 54958; September 19, 2005 | October 24, 2005.
819573 | Peregrine Fund | 70 FR 58234; October 5, 2005 | November 15, 2005.
700309 | National Zoo | 70 FR 58736; October 7, 2005 | November 14, 2005.
108484 | Woodland Park Zoo | 70 FR 70090; November 21, 2005 | January 12, 2006.
109051 | Richard Lawler, Boston University | 70 FR 72644; December 6, 2005 | January 9, 2006.
108766 | Pittsburgh Zoo | 70 FR 70090; December 6, 2005 | January 30, 2006.
060470, 060471, 060472, 060473, and 060474 | Hollywood Animals | 70 FR 75214; December 19, 2005 | January 20, 2006.
091943 | Clyde R. Robinson, Jr | 69 FR 61261; October 15, 2004 | May 20, 2005.
092526 | Rosamond Gifford Zoo | 69 FR 61261; October 15, 2004 | January 11, 2005.
093860 | Cincinnati Zoo | 69 FR 65213; November 10, 2004 | March 22, 2005.
094867 | Caroline Stahala | 69 FR 65213; November 10, 2004 | January 5, 2005.
096771 | Field Museum of Natural History | 70 FR 1455; January 7, 2005 | July 7, 2005.
097298 | Dallas Zoo | 70 FR 3222; January 21, 2005 | May 24, 2005.
097156 | Los Angeles Zoo | 70 FR 1455; January 7, 2005 | May 3, 2005.
098187 | San Antonio Zoo | 70 FR 5203; February 1, 2005 | June 3, 2005.
102941 | Omaha's Henry Doorly Zoo | 70 FR 38190; July 1, 2005 | August 22, 2005.
116076 | Robert E. Pitts | 70 FR 75213; December 19, 2005 | January 24, 2006.
115741 | Winston C. Stalcup | 70 FR 75472; December 20, 2005 | January 24, 2006.
115665 | Keith A. Platter | 70 FR 75213; December 19, 2005 | January 24, 2006.
114211 | John D. Smith | 70 FR 70090; November 21, 2005 | December 27, 2005.
113932 | Edward J. Beattie | 70 FR 75214; December 19, 2005 | January 24, 2006.
112069 | Stephen A. Grove | 70 FR 75214; December 19, 2005 | January 24, 2006.
111561 | Glen D. Holcomb | 70 FR 72644; December 6, 2005 | January 18, 2006.
111554 | Paul J. Barstad | 70 FR 72644; December 6, 2005 | January 18, 2006.
111449 | Jerry K. Davis | 70 FR 62321; October 31, 2005 | December 1, 2005.
111547 | Tommy B. Haas | 70 FR 75214; December 19, 2005 | January 24, 2006.
110976 | John C. Wirth, Jr | 70 FR 58736; October 7, 2005 | December 1, 2005.
110977 | Linda C. Donaho | 70 FR 72644; December 6, 2005 | January 18, 2006.
107416 | Matthew Yap | 70 FR 41782; July 20, 2005 | September 1, 2005.
107181 | Robert B. Fay Jr | 70 FR 54958; September 19, 2005 | October 20, 2005.
106850 | Joseph S. Brannen | 70 FR 51838; August 31, 2005 | October 20, 2005.
106840 | Gary L. Sharkey | 70 FR 58234; October 5, 2005 | November 8, 2005.
106636 | Albert A. Wolfe, IV | 70 FR 51838; August 31, 2005 | November 18, 2005.
106635 | Brett A. Nelson | 70 FR 51838; August 31, 2005 | November 8, 2005.
105859 | Gino A. Harrison | 70 FR 44679 August 3, 2005 | August 19, 2005.
105808 | James F. Gerlach | 70 FR 41782; July 20, 2005 | August 18, 2005.
105804 | August S. Haugen | 70 FR 44679; August 3, 2005 | September 13, 2005.
104703 | George F. Gehrman | 70 FR 39786; July 11, 2005 | August 18, 2005.
103046 | Eugene W.C. Yap | 70 FR 34791; June 15, 2005 | September 1, 2005.
100457 | Floyd H. Gillenwater | 70 FR 12495; March 14, 2005 | April 15, 2005.
100281 | Bret D. Overturf | 70 FR 19778; April 14, 2005 | June 6, 2005.
107396 | Texas Tech University | 70 FR 62321; October 31, 2005 | January 27, 2006.
097801 | Blair R. Hamilton | 70 FR 7294; February 11, 2005 | April 13, 2005.
090956 | Marilyn K. Baxter | 69 FR 51703; August 20 2004 | October 26, 2004.
085125 | Lance E. Novak | 69 FR 21858; April 22, 2004 | May 27, 2004.

Marine Mammals
Permit number | Applicant | Receipt of application Federal Register notice | Permit issuance date
093627 | William D. Hober | 70 FR 61261; October 15, 2004 | January 27, 2005.
096951 | John C. Mackay | 70 FR 5203; February 1, 2005 | March 15, 2005
101095 | Lloyd D. Whaley | 70 FR 30772; May 27, 2005 | July 20, 2005.
102929 | Darrel E. Gusa | 70 FR 41783; July 20, 2005 | August 30, 2005.
104056 | John D. Teeter | 70 FR 44679; August 3, 2005 | October 4, 2005.
104141 | Charles W. Lewensten | 70 FR 44679; August 3, 2005 | September 13, 2005.
105668 | Terry L. Shupe | 70 FR 44679; August 3, 2005 | September 13, 2005.
106486 | Jerri Frehner | 70 FR 51838; August 31, 2005 | November 4, 2005.
106526 | Raymond L. Howell | 70 FR 51838; August 31, 2005 | January 11, 2006.
106532 | Garth E. Frehner | 70 FR 51838; August 31, 2005 | November 4, 2005.
109700 | Michael L. Gill | 70 FR 54958; September 19, 2005 | February 15, 2006.
111562 | Marshall G. Varner | 70 FR 75214; December 19, 2005 | February 14, 2006.
112072 | Rodney M. Brush | 70 FR 75214; December 19, 2005 | February 1, 2006.

Dated: March 3, 2006.
Monica Farris,
Senior Permit Biologist, Branch of Permits, Division of Management Authority.

[FR Doc. E6-3737 Filed 3-14-06; 8:45 am]

BILLING CODE 4310-55-P